DEPARTMENT OF TRANSPORTATION

[Docket No. DOT-OST-2021-0005]

Automated Vehicles Comprehensive Plan; Request for Comments

AGENCY: Office of the Secretary (OST), U.S. Department of Transportation (DOT).

ACTION: Notice of request for comments (RFC).

SUMMARY: The Office of the Secretary of Transportation (OST) invites public comment on the document, Automated Vehicles Comprehensive Plan (Comprehensive Plan). The Comprehensive Plan describes how the United States Department of Transportation (U.S. DOT) is working towards the safe and full integration of Automated Driving Systems (ADS) into the surface transportation system. It explains Departmental goals related to ADS, identifies actions being taken to meet those goals, and provides real-world examples of how these Departmental actions relate to emerging ADS applications.

DATES: You should submit your comments within 60 days after the date of publication in the Federal Register. Written Comments: Comments should refer to the docket number above and be submitted by one of the following methods:

• Federal Rulemaking Portal: http://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Instructions: For detailed instructions on submitting comments and additional information on the rulemaking process, see the Public Participation heading of the SUPPLEMENTARY INFORMATION section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or at https://www.transportation.gov/privacy.

Docket: For access to the docket to read background documents or comments received, go to http://www.regulations.gov or to the street address listed above. Follow the online instructions for accessing the dockets.

FOR FURTHER INFORMATION CONTACT:

Please contact us at automation@dot.gov.

SUPPLEMENTARY INFORMATION:

The Comprehensive Plan document is available at: www.transportation.gov/av.

Development of ADS technology is occurring along multiple paths and significant uncertainty still exists around what form ADS applications and vehicles will take in the future. Even with the progress the industry has made over the last decade, no vehicle equipped with an ADS is available for purchase in the U.S., to date. Technologies are still under development, and the deployment of ADS-equipped vehicles—outside of small-scale pilots—remains years away.

The Comprehensive Plan addresses clear near-term needs while laying the groundwork for longer-term changes. This plan does not attempt to predict the future forms of ADS-equipped vehicles or the services they may provide. U.S. DOT will periodically review its activities and plans to reflect new technology and industry developments and stakeholder feedback, eliminate unnecessary or redundant initiatives, and align investments with emerging focus areas. Comments received to this Comprehensive Plan will assist the Department in planning and prioritizing its future activities, but comments directed at any particular action contained in the Plan, including the ongoing rulemakings, are outside of the scope of this request and should, instead, be provided in the relevant docket for that action during its open comment period.

Public Participation

How do I prepare and submit comments?

Your comments must be written and in English. To ensure that your comments are filed correctly in the docket, please include the docket number of this document in your comments.

Please submit one copy (two copies if submitting by mail or hand delivery) of your comments, including the attachments, to the docket following the instructions given above under ADDRESSES. Please note, if you are submitting comments electronically as a PDF (Adobe) file, we ask that the documents submitted be scanned using an Optical Character Recognition (OCR) process, thus allowing the agency to search and copy certain portions of your submissions.

How do I submit confidential business information?

Any submissions containing Confidential Information must be delivered to OST in the following manner:

• Submitted in a sealed envelope marked “confidential treatment requested”;

• Accompanied by an index listing the document(s) or information that the submitter would like the Department to withhold. The index should include information such as numbers used to identify the relevant document(s) or information, document title and description, and relevant page numbers and/or section numbers within a document; and

• Submitted with a statement explaining the submitter's grounds for objecting to disclosure of the information to the public.

OST also requests that submitters of Confidential Information include a non-confidential version (either redacted or summarized) of those confidential submissions in the public docket. In the event that the submitter cannot provide a non-confidential version of its submission, OST requests that the submitter post a notice in the docket stating that it has provided OST with Confidential Information. Should a submitter fail to docket either a non-confidential version of its submission or to post a notice that Confidential Information has been provided, we will note the receipt of the submission on the docket, with the submitter's organization or name (to the degree permitted by law) and the date of submission.

Will the agency consider late comments?

The U.S. DOT will consider all comments received before the close of business on the comment closing date indicated above under DATES. To the extent practicable, the agency will also consider comments received after that date.

How can I read the comments submitted by other people?

You may read the comments received at the address given above under COMMENTS. The hours of the docket are indicated above in the same location. You may also see the comments on the internet, identified by the docket number at the heading of this notice, at http://www.regulations.gov.

Issued in Washington, DC, on January 13, 2021 under authority delegated at 49 U.S.C. 1.25a.
Thomas Finch Flton,
Deputy Assistant Secretary for Transportation Policy.

[FR Doc. 2021-01115 Filed 1-19-21; 8:45 am]

BILLING CODE 4910-9X-P